DEPARTMENT OF THE TREASURY

Internal Revenue Service

Open Meeting of the Wage & Investment Reducing Taxpayer Burden (Notices) Issue Committee of the Taxpayer Advocacy Panel

AGENCY: Internal Revenue Service (IRS), Treasury.

ACTION: Notice.

SUMMARY: An open meeting of the Wage & Investment Reducing Taxpayer Burden (Notices) Issue Committee of the Taxpayer Advocacy Panel will be conducted in Atlanta, Georgia. The Taxpayer Advocacy Panel is soliciting public comments, ideas and suggestions on improving customer service at the Internal Revenue Service.

DATES: The meeting will be held Wednesday, March 14, 2007 at 1 p.m. to 5 p.m. ET, Thursday, March 15, 2007 at 8 a.m. to 5 p.m. ET, and Friday, March 16, 2007 at 8 a.m. to 12 Noon ET.

FOR FURTHER INFORMATION CONTACT: Sallie Chavez at 1-888-912-1227, or 954-423-7979.

SUPPLEMENTARY INFORMATION: Notice is hereby given pursuant to section 10 (a) (2) of the Federal Advisory Committee Act, 5 U.S.C. App. (1988) that an open meeting of the Wage & Investment Reducing Taxpayer Burden (Notices) Issue Committee of the Taxpayer Advocacy Panel will be held. The meeting will be held Wednesday, March 14, 2007 at 1 p.m. to 5 p.m. ET, Thursday, March 15, 2007 at 8 a.m. to 5 p.m. ET, and Friday, March 16, 2007 at 8 a.m. to 12 Noon ET. If you would like to have the TAP consider a written statement, please call 1-888-912-1227 or 954-423-7979, or write Sallie Chavez, TAP Office, 1000 South Pine Island Road, Suite 340, Plantation, FL 33324. For information or to confirm attendance, notification of intent to attend the meeting must be made with Sallie Chavez. Ms. Chavez can be reached at 1-888-912-1227 or 954-423-7979, or post comments to the Web site: http://www.improveirs.org.

The agenda will include: Various IRS issues.

Dated: February 15, 2007.
John Fay,
Acting Director, Taxpayer Advocacy Panel.

[FR Doc. E7-3422 Filed 2-27-07; 8:45 am]

BILLING CODE 4830-01-P